DEPARTMENT OF DEFENSE

Office of the Secretary

[Transmittal Nos. 12-37]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-37 with attached transmittal and policy justification.

Dated: July 30, 2012.
Aaron Siegel,
Alternate OSD Federal Register Liaison Officer, Department of Defense.

BILLING CODE 5001-06-P

BILLING CODE 5001-06-C

Transmittal No. 12-37

Notice of Proposed Issuance of Letter of Offer Pursuant to Section 36(b)(1) Of the Arms Export Control Act, as amended

(i) Prospective Purchaser: Colombian Army (COLAR)

(ii) Total Estimated Value:

Major Defense Equipment * | $80 million
Other | $ 7 million
Total | $87 million

(iii) Description and Quantity or Quantities of Articles or Services under Consideration for Purchase: 5 UH-60L BLACK HAWK Helicopters, 10 T700-GE-701D General Electric Engines, warranty, internal fuel tanks, spare and repair parts, tools and support equipment, publications and technical documentation, personnel training and training equipment, U.S. Government and contractor engineering, logistics and technical support services, and other related elements of logistics support.

(iv) Military Department: Army (VGB)

(v) Prior Related Cases, if any:

FMS Case UUF—$143M-13 Jun 00

FMS Case UTN—$116M-24 Dec 96

FMS Case USI—$ 37M-28 Dec 93

FMS Case ULY—$ 35M-29 Jun 89

FMS Case UKZ—$ 36M-30 Jun 87

FMS Case UXM—$ 96M-19 Sep 05

FMS Case VBR—$230M-18 Apr 07

FMS Case UYD—$ 30M-10 Mar 06

FMS Case VFP—$128M-10 Mar 11

(vi) Sales Commission, Fee, etc., Paid, Offered, or Agreed to be Paid: None

(vii) Sensitivity of Technology Contained in the Defense Article or Defense Services

Proposed to be Sold: None

(viii) Date Report Delivered to Congress: 20 July 2012

* as defined in Section 47(6) of the Arms Export Control Act.

POLICY JUSTIFICATION

Colombia—UH-60L BLACK HAWK Helicopters

The Government of Colombia has requested a possible sale of 5 UH-60L BLACK HAWK Helicopters, 10 T700-GE-701D General Electric Engines, warranty, internal fuel tanks, spare and repair parts, tools and support equipment, publications and technical documentation, personnel training and training equipment, U.S. Government and contractor engineering, logistics, and technical support services, and other related elements of logistics support. The estimated cost is $87M.

This proposed sale will contribute to the foreign policy and national security of the United States by helping to improve the security of a friendly country, which has been and continues to be an important force for political stability and economic progress in South America.

Colombia intends to use these helicopters to modernize its armed forces. The purchase of UH-60L BLACK HAWK Helicopters by the Colombian Army will contribute to Colombia's goal of updating its capabilities while enhancing interoperability between Colombia, the U.S., and other allies.

The proposed sale of this equipment and support will not alter the basic military balance in the region.

The prime contractor will be Sikorsky Aircraft Corporation in Stratford, Connecticut. There are no known offset agreements proposed in connection with this potential sale.

Implementation of the proposed sale will require U.S. Government or contractor representatives to travel to Colombia for a period of 6 weeks for equipment deprocessing/fielding, and system checkout.

There will be no adverse impact on U.S. defense readiness as a result of this proposed sale.

[FR Doc. 2012-18964 Filed 8-2-12; 8:45 am]

BILLING CODE 5001-06-P